DEPARTMENT OF TRANSPORTATION

Federal Motor Carrier Safety Administration

[Docket No. FMCSA-2011-0325]

Qualification of Drivers; Exemption Applications; Vision

AGENCY: Federal Motor Carrier Safety Administration (FMCSA), DOT.

ACTION: Notice of applications for exemptions; request for comments.

SUMMARY: FMCSA announces receipt of applications from twelve individuals for exemption from the vision requirement in the Federal Motor Carrier Safety Regulations. If granted, the exemptions would enable these individuals to qualify as drivers of commercial motor vehicles (CMVs) in interstate commerce without meeting the Federal vision requirement.

DATES: Comments must be received on or before February 6, 2012.

ADDRESSES: You may submit comments bearing the Federal Docket Management System (FDMS) Docket No. FMCSA-2011-0325 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1 (202) 493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgment page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The twelve individuals listed in this notice have each requested such an exemption from the vision requirement in 49 CFR 391.41(b)(10) which applies to drivers of CMVs in interstate commerce. Accordingly, the Agency will evaluate the qualifications of each applicant to determine whether granting an exemption will achieve the required level of safety mandated by statute.

Qualifications of Applicants

Rene Amaya

Mr. Amaya, age 36, has had amblyopia in his left eye since birth. The best corrected visual acuity in his right eye is 20/15 and in his left eye, 20/200. Following an examination in 2011, his optometrist noted, “In my medical opinion, Rene Amaya has sufficient vision to perform the driving tasks required to operate a commercial vehicle.” Mr. Amaya reported that he has driven straight trucks for 2 years, accumulating 78,000 miles and tractor-trailer combinations for 2½ years, accumulating 102,500 miles. He holds a Class A Commercial Driver's License (CDL) from New Mexico. His driving record for the last 3 years shows no crashes and no convictions for moving violations in a CMV.

Brian K. Cline

Mr. Cline, 32, has had amblyopia in his left eye since childhood. The best corrected visual acuity in his right eye is 20/20 and in his left eye, 20/60. Following an examination in 2011, his optometrist noted, “In my medical opinion, with his vision correction, his vision allows him to perform commercial driving tasks.” Mr. Cline reported that he has driven straight trucks for 3½; years, accumulating 88,000 miles and tractor-trailer combinations for 3 years, accumulating 18,000 miles. He holds a Class A CDL from North Carolina. His driving record for the last 3 years shows no crashes and no convictions for moving violations in a CMV.

Robert E. Judd

Mr. Judd, 49, has had amblyopia in his left eye since birth. The best corrected visual acuity in his right eye is 20/20 and in his left eye, 20/200. Following an examination in 2011, his optometrist noted, “It is my opinion that Mr. Judd has sufficient vision to perform driving tasks in a commercial vehicle.” Mr. Judd reported that he has driven straight trucks for 9 years, accumulating 135,000 miles. He holds an operator's license from Indiana. His driving record for the last 3 years shows no crashes and no convictions for moving violations in a CMV.

Mickey E. Lawson

Mr. Lawson, 50, has had amblyopia in his left eye since birth. The best corrected visual acuity in his right eye is 20/20 and in his left eye, 20/400. Following an examination in 2011, his optometrist noted, “I see no visual reason that Mr. Lawson would not be able to continue driving commercially (as he has for many years).”

Mr. Lawson reported that he has driven straight trucks for 10 years, accumulating 21 million miles and tractor-trailer combinations for 15 years, accumulating 577,000 miles. He holds a Class A CDL from North Carolina. His driving record for the last 3 years shows no crashes and no convictions for moving violations in a CMV.

Robbey J. Nelson

Mr. Nelson, 42, has had keratoconus in his left eye since 2002. The best corrected visual acuity in his right eye is 20/20 and in his left eye, 20/100. Following an examination in 2011, his optometrist noted, “This patient has normal color vision and has sufficient vision to operate a motor vehicle commercial or otherwise.” Mr. Nelson reported that he has driven straight trucks for 20 years, accumulating 500,000 miles and tractor-trailer combinations for 20 years, accumulating 400,000 miles. He holds a Class A CDL from North Carolina. His driving record for the last 3 years shows no crashes and no convictions for moving violations in a CMV.

Thomas M. Nubert

Mr. Nubert, 55, has had reduced vision in his right eye due to a birth defect. The best corrected visual acuity in his right eye is 20/400 and in his left eye, 20/20. Following an examination in 2011, his optometrist noted, “I feel that he does have sufficient vision to perform the driving tasks to operate a commercial vehicle.”

Mr. Nubert reported that he has driven straight trucks for 26 years, accumulating 572,000 miles and tractor-trailer combinations for 8 years, accumulating 240,000 miles. He holds a Class A CDL from Ohio. His driving record for the last 3 years shows no crashes and no convictions for moving violations in a CMV.

Terri D. Payne

Ms. Payne, 43, has had amblyopia in her left eye since birth. The best corrected visual acuity in her right eye is 20/20 and in her left eye, 20/70. Following an examination in 2011, her optometrist noted, “Based upon my findings and medical expertise, I, W.E. Robinson, Jr., hereby certify Terri D. Payne to be visually able to safely operate a commercial motor vehicle.” Ms. Payne reported that she has driven straight trucks for 12 years, accumulating 57,600 miles. She holds a Class D operator's license from Kentucky. Her driving record for the last 3 years shows no crashes and no convictions for moving violations in a CMV.

Michael C. Reese

Mr. Reese, 46, has had amblyopia in his right eye since childhood. The best corrected visual acuity in his right eye is 20/400 and in his left eye, 20/20. Following an examination in 2011, his optometrist noted, “In my opinion, you have sufficient vision to perform the driving taks required to operate a commercial vehicle.” Mr. Reese reported that he has driven tractor-trailer combinations for 15 years, accumulating 61,500 miles. He holds a Class A CDL from Georgia. His driving record for the last 3 years shows no crashes and no convictions for moving violations in a CMV.

Mark C. Reineke

Mr. Reineke, 60, has had macular scarring in his left eye due to a traumatic injury sustained in 1981. The best corrected visual acuity his right eye is 20/25 and in his left eye is finger-count vision. Following an examination in 2011, his ophthalmologist noted, “I believe Mr. Reineke to have sufficient vision to operate a commercial vehicle.”

Mr. Reineke reported that he has driven straight trucks for 6 years, accumulating 18,000 miles and tractor-trailer combinations for 4 years, accumulating 60,000 miles. He holds a Class A CDL from New Mexico. His driving record for the last 3 years shows no crashes and no convictions for moving violations in a CMV.

Robert T. Reynolds

Mr. Reynolds, 51, has had retinal vein occlusion in his right eye for the past five years. The best corrected visual acuity in his right eye is 20/400 and in his left eye, 20/20. Following an examination in 2011, his ophthalmologist noted, “Due to the fact your vision is stable, I believe you have sufficient vision to perform you job as a commercial vehicle operator.” Mr. Reynolds reported that he has driven straight trucks for 23 years, accumulating 3.4 million miles and tractor-trailer combinations for 5 years accumulating 1 million miles. He holds a Class D operator's license from Ohio. His driving record for the last 3 years shows no crashes and no convictions in a CMV.

Lawrence D. Ventimiglia

Mr. Ventimiglia, 46, has had reduced vision in his right eye since birth. The best corrected visual acuity in his right eye is count-finger vision and in his left eye, 20/25. Following an examination in 2011, his optometrist noted, “I certify that Larry has sufficient vision to perform the driving tasks required to operate a commercial vehicle.” Mr. Ventimiglia reported that he has driven straight trucks for less than 3 years, accumulating about 31,200 miles. He holds a Class A CDL from Nevada. His driving record for the last 3 years shows no crashes and no convictions in a CMV.

Chadwick L. Wyatt

Mr. Wyatt, 34, has had a central corneal scar in his left eye since childhood. The best corrected visual acuity in his right eye is 20/20 and in his left eye, 20/100. Following an examination in 2011, his optometrist noted, “Patient can recognize traffic control colors and has sufficient vision to operate a commercial vehicle.” Mr. Wyatt reported that he has driven straight trucks for 2½ years, accumulating 137,500 miles and tractor-trailer combinations for 2½ years, accumulating 137,500 miles. He holds a Class A CDL from North Carolina. His driving record for the last 3 years shows no crashes and no convictions for moving violations in a CMV.

Request for Comments

In accordance with 49 U.S.C. 31136(e) and 31315, FMCSA requests public comment from all interested persons on the exemption petitions described in this notice. The Agency will consider all comments received before the close of business February 6, 2012. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: December 22, 2011.
Larry W. Minor,
Associate Administrator for Policy.

[FR Doc. 2011-33788 Filed 1-4-12; 8:45 am]

BILLING CODE 4910-EX-P